DEPARTMENT OF THE INTERIOR

Bureau of Land Management

[OR-027-1020-PH-029H; HAG 07-0052]

Meeting Notice for the Southeast Oregon Resource Advisory Council

AGENCY: Bureau of Land Management, Department of the Interior, Burns District.

ACTION: Notice.

SUMMARY: The Southeast Oregon Resource Advisory Council (SEORAC) will hold a meeting Thursday, February 8 from 8 a.m. to 3:30 p.m., at the U.S. Bureau of Land Management (BLM) Burns District Office, 28910 Hwy 20 West in Hines.

Agenda items for the 1-day meeting include an update on the Off-Highway Vehicle/Transportation Strategy for Oregon and Washington public lands; information sharing regarding the Malheur Wild and Scenic River litigation, adaptive management and monitoring, and manipulating livestock behavior; and review of District and Forest Fiscal Year 2007 work plans and Council subgroup and liaison assignments. Council members will also hear updates from the Designated Federal Officials, establish new subgroup and liaison assignments, give liaison and subgroup reports, discuss the Resources and People Camp, and develop agenda items for the May meeting. Any other matters that may reasonably come before the SEORAC may also be addressed.

The public is welcome to attend all portions of the meeting and may contribute during the public comment period at 1 p.m. Those who verbally address the SEORAC during the public comment period are asked to also provide a written statement of their comments or presentation. Unless otherwise approved by the SEORAC Chair, the public comment period will last no longer than 30 minutes, and each speaker may address the SEORAC for a maximum of 5 minutes.

If you have information you would like distributed to RAC members, please send it to Tara Martinak at the Burns District Office, 28910 Hwy 20 West, Hines, Oregon 97738, prior to the start of the meeting. If you send information or general correspondence to anyone at the Burns District Office and would like a copy given to the RAC, please write “COPY TO RAC” on the envelope and enclosed document(s).

The SEORAC consists of 15 members chartered and appointed by the Secretary of the Interior. Their diverse perspectives are represented in commodity, conservation, and general interests. They provide advice to BLM and Forest Service resource managers regarding management plans and proposed resource actions on public land in southeast Oregon.

FOR FURTHER INFORMATION CONTACT: Tara Martinak, SEORAC Facilitator, Burns District Office, 28910 Hwy 20 West, Hines, Oregon 97738, (541) 573-4519, or Tara_Wilson@blm.gov.

Under the Federal Advisory Committee Act management regulations (41 CFR 102-3.15(b)), in exceptional circumstances an agency may give less than 15 days notice of committee meeting notices published in the Federal Register. In this case, this notice is being published less than 15 days prior to the meeting due to scheduling conflicts and difficulty obtaining a secure agenda.

Dated: January 23, 2007.
Dana R. Shuford,
District Manager.

[FR Doc. E7-1324 Filed 1-26-07; 8:45 am]

BILLING CODE 4310-33-P